ENVIRONMENTAL PROTECTION AGENCY

[OPP-2003-0019; FRL-7288-8]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by August 4, 2003, or March 7, 2003, for EPA Registration Numbers: 001812-00420; 001812-00424; 006218-00069, orders will be issued canceling these registrations.

FOR FURTHER INFORMATION CONTACT: James A. Hollins, Information Resources Services Division 7502C, Office of Pesticide Programs, Environmental Protection Agency, 1200 Pennsylvania Ave., NW., Washington, DC 20460-0001; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0019. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 33 pesticide products registered under section 3 or 24(c) of FIFRA. These registrations are listed in sequence by registration number (or company number and 24(c) number) in Table 1 of this unit:

Table 1.—Registrations With Pending Requests for Cancellation
Registration Number | Product Name | Chemical Name
000100 ID-02-0018 | Cyclone concentrate/gramoxone max | 1,1'-Dimethyl-4,4'-bipyridinium dichloride
000241 ID-99-0006 | Raptor herbicide | (+-)-2-(4,5-Dihydro-4-methyl-4-(1-methylethyl)-5-oxo-1H-imidazol-2-
000264-00456 | Ethoprop (technical grade) | O-Ethyl S,S-dipropyl phosphorodithioate
000264-00465 | Mocap 10% granular nematicide insecticide | O-Ethyl S,S-dipropyl phosphorodithioate
000264-00644 | Whip 1 EC herbicide | 2-(4-((6-Chloro-2-benzoxazolyl)oxy)phenoxy)propionic acid, ethyl ester, (+-)
000264 FL-85-0001 | Mocap nematacide - insecticide 10% granular | O-ethyl S,S-dipropyl phosphorodithioate
000264 ME-93-0003 | Mocap 10% granular nematicide - insecticide | O-ethyl S,S-dipropyl phosphorodithioate
000400 NE-02-0005 | Dimilin 2L | 1-(4-Chlorophenyl)-3-(2,6-difluorobenzoyl)urea
000400 OR-02-0008 | Dimilin 2L | 1-(4-Chlorophenyl)-3-(2,6-difluorobenzoyl)urea
000400 WA-02-0006 | Dimilin 2L | 1-(4-Chlorophenyl)-3-(2,6-difluorobenzoyl)urea
001812-00420 | Griffin boa herbicide | 1,1'-Dimethyl-4,4'-bipyridinium dichloride
001812-00424 | Griffin boa concentrate | 1,1'-Dimethyl-4,4'-bipyridinium dichloride
006218-00069 | Summit Permacide | O,O-Diethyl O-(2-isopropyl-6-methyl-4-pyrimidinyl) phosphorothioate
|  | (Butylcarbityl)(6-propylpiperonyl) ether 80% and related compounds 20%
|  | Pyrethrins
028293-00086 | Unicorn dairy spray for milk houses and animals | (Butylcarbityl)(6-propylpiperonyl) ether 80% and related compounds 20%
|  | Pyrethrins
028293-00094 | Unicorn automatic sequential insecticide | (Butylcarbityl)(6-propylpiperonyl) ether 80% and related compounds 20%
|  | Pyrethrins
028293-00156 | Unicorn pet shampoo III | Cyclopropanecarboxylic acid, 3-(2,2-dichloroethenyl)-2,2-dimethyl
028293-00157 | Unicorn pyfen fogger | N-Octyl bicycloheptene dicarboximide
|  | (Butylcarbityl)(6-propylpiperonyl) ether 80% and related compounds 20%
|  | Pyrethrins
|  | 4-Chloro-alpha-(1-methylethyl) benzeneacetic acid, cyano(3-phenoxyphenyl)methyl
028293-00168 | Unicorn 7900 | Iodine
028293-00170 | Unicorn 7920 | Alkyl* dimethyl benzyl ammonium chloride *(50%C14, 40%C12, 10%C16)
|  | Didecyl dimethyl ammonium chloride
|  | Octyl decyl dimethyl ammonium chloride
|  | Dioctyl dimethyl ammonium chloride
028293-00171 | Unicorn 7930 | Alkyl* dimethyl benzyl ammonium chloride *(50%C14, 40%C12, 10%C16)
|  | Didecyl dimethyl ammonium chloride
|  | Octyl decyl dimethyl ammonium chloride
|  | Dioctyl dimethyl ammonium chloride
028293-00172 | Unicorn flea and tick shampoo | (Butylcarbityl)(6-propylpiperonyl) ether and related compounds 20%
|  | Pyrethrins
028293-00184 | Unicorn liquid plant spray #2 | Pyrethrins
|  | Cyclopropanecarboxylic acid, 3-(2,2-dichloroethenyl)-2,2-dimethyl
028293-00186 | Unicorn (vegetable and ornamental) spray #2 | (S-(R*,R*))-4-Chloro-alpha-(1-methylethyl)benzeneacetic acid,
028293-00187 | Unicorn vegetable spray concentrate | (S-(R*,R*))-4-Chloro-alpha-(1-methylethyl)benzeneacetic acid,
028293-00189 | Unicorn fogger #7 | N-Octyl bicycloheptene dicarboximide
|  | (Butylcarbityl)(6-propylpiperonyl) ether 80% and related compounds 20%
|  | Pyrethrins
|  | (S-(R*,R*))-4-Chloro-alpha-(1-methylethyl)benzeneacetic acid
028293-00193 | Unicorn fogger #5 | 2-Methyl-4-oxo-3-(2-propenyl)-2-cyclopenten-1-yl d-trans-2,2-dimethyl
|  | (S-(R*,R*))-4-Chloro-alpha-(1-methylethyl)benzeneacetic acid
028293-00262 | Unicorn ear miticide IV | (Butylcarbityl)(6-propylpiperonyl) ether 80% and related compounds 20%
|  | Pyrethrins
046813-00020 | CCL wasp and hornet killer | (1-Cyclohexene-1,2-dicarboximido)methyl 2,2-dimethyl-3-(2- methylpropenyl)cycloprop
|  | (3-Phenoxyphenyl)methyl d-cis and trans* 2,2-dimethyl-3-(2- methylpropenyl)cyclopro
049403-00004 | Nipa BCP disinfectant | 2-Benzyl-4-chlorophenol
049403-00005 | Sanco-phene | 2-Benzyl-4-chlorophenol
|  | 4-Tert-amylphenol
|  | O-phenylphenol
062719-00245 | Lorsban 4E-SG | O,O-diethyl O-(3,5,6-trichloro-2-pyridyl) phosphorothioate
062719 ID-95-0018 | Transline | 3,6-Dichloro-2-pyridinecarboxylic acid alkanolamine salts (of ethanol

Unless a request is withdrawn by the registrant within 180 days of publication of this notice, or 30 days where indicated, orders will be issued canceling all of these registrations. Users of these pesticides or anyone else desiring the retention of a registration should contact the applicable registrant directly during the indicated comment period.

In accordance with the December 2000, Diazinon Memorandum of Agreement, the cancellation order shall become effective 30 days after the date of this Federal Register and the distribution or sale of existing stocks by the registrant of EPA registration number 006218-0069, which bears instructions for indoor use, shall not be lawful under FIFRA as of the effective date of the cancellation order, except for the purposes of shipping such stocks for export consistent with Section 17 of FIFRA or for proper disposal. The distribution or sale of existing stocks of EPA registration number 006218-0069 by any person other than the registrant will not be lawful under FIFRA after December 31, 2002, except for the purpose of shipping such stocks for export consistent with Section 17 of FIFRA or for proper disposal.

Table 2 of this unit includes the names and addresses of record for all registrants of the products in Table 1 of this unit, in sequence by EPA company number:

Table 2.—Registrants Requesting Voluntary Cancellation
EPA Company Number | Company Name and Address
000100 | Syngenta Crop Protection, Inc., Box 18300, Greensboro, NC 27419
000241 | BASF Corp., Box 13528, Research Triangle Park, NC 27709
000264 | Bayer CropScience LP, 2 T.W. Alexander Drive, Research Triangle Park, NC 27709
000400 | Crompton MFG. Co., Inc., 74 Amity Rd, Bethany, CT 06524
001812 | Griffin L.L C., Box 1847, Valdosta, GA 31603
006218 | Summit Chemical Co, Summit Responsible Solutions, 7657 Canton Center Drive, Baltimore, MD 21224
028293 | Unicorn Laboratories, 12385 Automobile Blvd., Clearwater, FL 33762
046813 | John Roach, Agent For: K-G Packaging, Inc., 24931 Winoa, Dearborn, MI 48124
049403 | Lewis and Harrison, Agent For: Clariant Corp., 122 C St NW Ste 740, Washington, DC 20001
062719 | Dow AgroSciences LLC, 9330 Zionsville Rd 308/2E225, Indianapolis, IN 46268

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before August 4, 2003, or March 7, 2003 for EPA Registration Numbers: 001812-00420; 001812-00424; 006218-00069.

This written withdrawal of the request for cancellation will apply only to the applicable FIFRA section 6(f)(1) request listed in this notice. If the product(s) have been subject of a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1-year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: January 22, 2003.
Linda Vlier Moos,
Acting Director, Information Resources Services Division, Office of Pesticide Programs.

[FR Doc. 03-2772 Filed 2-4-03; 8:45 am]

BILLING CODE 6560-50-S